DEPARTMENT OF ENERGY

Federal Energy Regulatory Commission

[Project No. 1744-041]

PacifiCorp; Notice of Application and Applicant-Prepared EA Accepted for Filing, Soliciting Motions To Intervene and Protests, and Soliciting Comments, and Final Recommendations, Terms and Conditions, and Prescriptions

Take notice that the following hydroelectric application and applicant-prepared environmental assessment has been filed with the Commission and is available for public inspection.

a. Type of Application: Major Constructed Project.

b. Project No.: 1744-041.

c. Date filed: May 30, 2018.

d. Applicant: PacifiCorp.

e. Name of Project: Weber Hydroelectric Project.

f. Location: On the Weber River, in Weber, Davis, and Morgan Counties, Utah. The project occupies 14.94 acres of United States lands administered by the U.S. Forest Service.

g. Filed Pursuant to: Federal Power Act 16 U.S.C. 791(a)-825(r).

h. Applicant Contact: Eve Davies, PacifiCorp—Renewable Resources, 1407 West North Temple, Suite 210, Salt Lake City, UT 84116; (801) 220-2245; e-mail eve.davies@pacificorp.com.

i. FERC Contact: Evan Williams at (202) 502-8462; or e-mail at evan.williams@ferc.gov.

j. Deadline for filing motions to intervene and protests, comments, and final terms and conditions, recommendations, and prescriptions: 60 days from the issuance date of this notice; reply comments are due 105 days from the issuance date of this notice.

The Commission strongly encourages electronic filing. Please file motions to intervene and protests, comments, and final terms and conditions, recommendations, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-1744-041.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing.

l. The existing Weber Project consists of: (1) A 114-foot-long, 16.7-foot-high concrete diversion dam that includes a low-level outlet, a 35-foot-wide intake structure that contains a 22-foot-wide, 31-foot-long, 19-foot-tall concrete intake box, and a 79-foot-long section containing two approximately 30-foot-long, 10-foot-high radial gates; (2) a 3-foot by 18-foot non-operative fish passage structure that is used to pass minimum flows through a calibrated slide gate opening at the dam; (3) an 8.4-acre reservoir having a total storage of approximately 42 acre-feet at elevation 4,798 feet above mean sea level; (4) a 9,110-foot-long, 5.5-foot to 6.3-foot-diameter steel penstock partially encased in concrete, and buried for most of its length; (5) a powerhouse with one 3,850-kilowatt generating unit; (6) a 22-foot-wide, 30-foot-long, 29-foot-high concrete tailrace chamber, integrated into the powerhouse foundation, which returns flows directly into the Weber River on the south side of the powerhouse; (7) a 77-foot-long, 46-kilovolt transmission line; and (8) appurtenant facilities. The project is estimated to generate an average of 16,932 megawatt-hours annually. PacifiCorp proposes to build a new fish passage structure at the edge of the existing diversion dam in an area that currently has graded, unvegetated soil.

m. A copy of the application is available for review at the Commission in the Public Reference Room or may be viewed on the Commission's website at http://www.ferc.gov using the “eLibrary” link. Enter the docket number excluding the last three digits in the docket number field to access the document. For assistance, contact FERC Online Support at FERCOnlineSupport. A copy is also available for inspection and reproduction at the address in item h above.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “NOTICE OF INTENT TO FILE COMPETING APPLICATION,” “COMPETING APPLICATION,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via email of new filings and issuances related to this or other pending projects. For assistance, contact FERC Online Support.

o. A license applicant must file no later than 60 days following the date of issuance of this notice: (1) A copy of the water quality certification; (2) a copy of the request for certification, including proof of the date on which the certifying agency received the request; or (3) evidence of waiver of water quality certification.

p. Procedural schedule: The application will be processed according to the following schedule. Revisions to the schedule will be made as appropriate.

Commission issues EA—July 2019

Comments on EA—August 2019

Dated: October 16, 2018.
Kimberly D. Bose,
Secretary.

[FR Doc. 2018-23121 Filed 10-22-18; 8:45 am]

BILLING CODE 6717-01-P